DEPARTMENT OF HEALTH AND HUMAN SERVICES

National Institutes of Health

National Institute of Allergy and Infectious Diseases; Amended Notice of Meeting

Notice is hereby given of a change in the meeting of the National Institute of Allergy and Infectious Diseases Special Emphasis Panel, February 27-28, 2002, 8:30 PM, Holiday Inn—Georgetown, 2101 Wisconsin Avenue, Washington, DC, which was published in the Federal Register on February 7, 2002, 67 FR 5839.

This meeting date has been changed to March 25-26, 2002, and will begin at 8:30 AM.

Dated: February 20, 2002.
LaVerne Y. Stringfield,
Director, Office of Federal Advisory Committee Policy.

[FR Doc. 02-4829 Filed 2-27-02; 8:45 am]

BILLING CODE 4140-01-M